DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Protocols for the Cross-Site Process Evaluation of the State Incentive Grant (SIG) Program

(New)—SAMHSA's Center for Substance Abuse Prevention (CSAP) is charged with evaluating the State Incentive Cooperative Agreements for Community-Based Action, or State Incentive Grant (SIG) Program. States receiving SIG funds are: (1) To coordinate, leverage and/or redirect, as appropriate, all substance abuse prevention resources within the State that are directed at communities, families, schools, and workplaces, and (2) to develop a revitalized, comprehensive State-wide prevention strategy aimed at reducing drug use by youth. The ultimate aim of the SIG Program is to prevent substance abuse among youths ages 12 to 17. The District of Columbia and the 20 States that have received SIG grants thus far are required to implement at the community level a range of substance abuse, community-based prevention efforts, at least half of which are derived from sound scientific research findings. CSAP awarded about $3 million per year for three years to each of five States in FY 1997, to each of fourteen States in FY 1998, to one State and the District of Columbia in FY 1999, and to seven additional States in FY 2000.

CSAP is conducting a national, cross-site evaluation of the SIG Program, consisting of a process and an outcome evaluation. The outcome evaluation will address two questions: (1) “Has the SIG Program had an impact on youth substance abuse?,” and (2) “How do SIG States differ in their impact on youth substance abuse?” These questions will be addressed by using data already being collected by SAMHSA's National Household Survey of Drug Abuse (NHSDA) and selected data collected independently within funded States. The process evaluation will focus on three questions: (1) “Did States attain the SIG Program's two main goals of coordinated funding streams and revitalized comprehensive prevention strategies and how were these goals attained?,” (2) “What other substance abuse prevention programming has the State implemented?,” and (3) “Did SIGs meet the criterion of supporting science-based programs fifty percent of the time, and what array of prevention activities were supported?'

In addition to the NHSDA data and the State data on outcomes, three instruments are needed to collect process information about SIG activities at the State, community, and program levels: (1) A SIG State Case Study Protocol; (2) a Sub-Recipient Community Protocol; and (3) a Comparison Community Protocol. The State Case Study Protocol, which will serve as the final report template for the grant, will collect data on the following topics at the State level: contextual conditions; SIG mobilization; system characteristics and dynamics; collaborative strategies or activities; immediate outcomes; systems change; sub-recipient characteristics and dynamics; sub-recipient planning and science-based prevention interventions; immediate, intermediate, and long-term outcomes for the sub-recipient community and program; possible rival explanations; and lessons learned. The Sub-recipient Community Protocol will collect data at the community level from a sample of sub-recipient communities in the SIG States on the following topics: contextual conditions, definition of the intervention in operation, and immediate, intermediate, and long-term outcomes. The Comparison Community Protocol will collect data from a sample communities in the SIG States that have not received sub-recipient awards on the following topics: the largest prevention initiatives in the community, community-wide policies aimed at preventing drug abuse, the community's comprehensive plan, and information about the community. Estimated response burden is as shown in the following table:

Protocol | Number of respondents | Responses per respondent | Hours per response | Total hour burden
SIG State Case Study (n=28) | 28 evaluators | 1 | 80 | 2,240
| 28 program directors | 1 | 8 | 224
| 56 key informants | 1 | 4 | 224
Sub-recipient Community (n=36) | 28 (initial contacts) | 1 | 1 | 28
| 36 (sub-recipient directors) | 1 | 1 | 36
| 360 (site visit interviews) | 1 | 1 | 360
Comparison Community (n=36) | 28 (initial contacts) | 1 | 1 | 28
| 360 (site visit interviews) | 1 | 1 | 360
Total | 924 |  |  | 3,500
Annual Average | 308 |  |  | 1,167

Written comments and recommendations concerning the proposed information collection should be sent within 30 days of this notice to: Stuart Shapiro, Human Resources and Housing Branch, Office of Management and Budget, New Executive Office Building, Room 10235, Washington, DC 20503.

Dated: April 24, 2001.
Richard Kopanda,
Executive Officer, SAMHSA.

[FR Doc. 01-10937 Filed 5-1-01; 8:45 am]

BILLING CODE 4162-20-P